DEPARTMENT OF THE INTERIOR

Bureau of Safety and Environmental Enforcement

Ocean Energy Safety Advisory Committee (OESC); Notice of Meeting

AGENCY: Bureau of Safety and Environmental Enforcement (BSEE), Interior.

ACTION: Notice of meeting.

SUMMARY: OESC will meet at the Department of the Interior's South Interior Building in Washington, DC.

DATES: Wednesday, January 9, 2013, from 8:00 a.m. to 5:00 p.m. and Thursday, January 10, 2013, from 8:00 a.m. to 1:00 p.m.

ADDRESSES: South Interior Building Auditorium, 1951 Constitution Avenue NW., Washington, DC 20240.

FOR FURTHER INFORMATION CONTACT: Mr. Joseph R. Levine at the Bureau of Safety and Environmental Enforcement, 381 Elden Street, Herndon, Virginia 20170-4187. He can be reached by telephone at (703) 787-1033 or by electronic mail at joseph.levine@bsee.gov.

SUPPLEMENTARY INFORMATION: OESC consists of representatives from industry, Federal Government agencies, non-governmental organizations, and the academic community. It provides policy advice to the Secretary of the Interior through the Director of BSEE on matters relating to ocean energy safety, including, but not limited to drilling and workplace safety, well intervention and containment, and oil spill response.

The agenda for Wednesday, January 9, 2013, will address the OESC Subcommittees' activities to date on oil spill prevention, spill containment, spill response and safety management systems, the arctic and proposed ocean energy safety institute.

The agenda for Thursday, January 10, 2013, will address interim recommendations presented to the OESC from its' six subcommittees for consideration and action, including lessons learned and next steps forward.

The meeting is open to the public. Approximately 100 visitors can be accommodated on a first-come-first-served basis. Members of the public will have the opportunity to comment on the activities of OESC and related topics on a first-come-first-served basis during the time allotted for public comment and may submit written comments to the OESC during the meeting or by email to the Committee at OESC@bsee.gov.

Minutes of the Ocean Energy Safety Advisory Committee meeting will be available for public inspection on the Committee's Web site at: http://www.bsee.gov/About-BSEE/Public-Engagement/OESC/Index.aspx.

Authority: Federal Advisory Committee Act, Pub. L. No. 92-463, 5 U.S.C. Appendix 1, and the Office of Management and Budget's Circular No. A-63, Revised.

Dated: December 14, 2012.
James A. Watson,
Director, Bureau of Safety and Environmental Enforcement.

[FR Doc. 2012-30671 Filed 12-19-12; 8:45 am]

BILLING CODE 4310-MR-P